DEPARTMENT OF HOUSING AND URBAN DEVELOPMENT

[Docket No. FR-5765-N-02]

Notice of a Federal Advisory Committee Meeting: Manufactured Housing Consensus Committee

AGENCY: Office of the Assistant Secretary for Housing—Federal Housing Commissioner, Department of Housing and Urban Development (HUD).

ACTION: Notice of a Federal Advisory Committee Meeting, Manufactured Housing Consensus Committee.

SUMMARY: This notice announces a teleconference meeting of the Manufactured Housing Consensus Committee (MHCC) and provides the schedule and proposed agenda. The teleconference meeting is open to the public. The agenda provides an opportunity for citizens to comment on the business before the MHCC.

DATES: The teleconference meeting will be held on June 26, 2014, from 1:00 p.m. to 4:00 p.m. EST. The teleconference number is: US Toll-Free: 888-741-3106, Conference ID: 54144750.

FOR FURTHER INFORMATION CONTACT: Pamela Beck Danner, Administrator and Designated Federal Official (DFO), Office of Manufactured Housing Programs, Department of Housing and Urban Development, 451 Seventh Street SW., Room 9168, Washington, DC 20410, telephone 202-708-6423 (this is not a toll-free number). Persons who have difficulty hearing or speaking may access this number via TTY by calling the toll-free Federal Information Relay Service at 800-877-8339.

SUPPLEMENTARY INFORMATION: Notice of this meeting is provided in accordance with the Federal Advisory Committee Act, 5. U.S.C. App. 10(a)(2) through implementing regulations at 41 CFR 102-3.150. The MHCC was established by the National Manufactured Housing Construction and Safety Standards Act of 1974 (42 U.S.C. 5401 et seq.) as amended by the Manufactured Housing Improvement Act of 2000 (Pub. L. 106-569). According to 42 U.S.C. 5403, as amended, the purposes of the MHCC are to:

• Provide periodic recommendations to the Secretary to adopt, revise, and interpret the Federal manufactured housing construction and safety standards;

• Provide periodic recommendations to the Secretary to adopt, revise, and interpret the procedural and enforcement regulations, including regulations specifying the permissible scope and conduct of monitoring; and

• Be organized and carry out its business in a manner that guarantees a fair opportunity for the expression and consideration of various positions and for public participation.

The MHCC is deemed an advisory committee not composed of Federal employees.

Public Comment: Citizens wishing to comment on the business of the MHCC are encouraged to register by or before June 24, 2014, by BLH Technologies, Inc., Attention; Antoinette Price by mail to: 1803 Research Boulevard, Suite 300, Rockville, MD 20850, or by email to: aprice@blhtech.com.

Written comments are encouraged. The MHCC strives to accommodate citizen comments to the extent possible within the time constraints of the meeting agenda. Advance registration is strongly encouraged. The MHCC will also provide an opportunity for public comment on specific matters before the consensus committee.

Tentative Agenda

June 26, 2014 from 1:00 p.m. to 4:00 p.m. EST

I. Opening Remarks: Chair & DFO

II. Update on Manufactured Housing Program Actions

III. Minutes of October 2012 MHCC Meeting—Review and Approval

IV. Structure & Design Subcommittee Meeting Report

V. Old Business—Review of Recommendations Pending before MHCC

VI. New Business—Review Items Forwarded to MHCC by HUD

• Southern Pine, Letter Dated—April 10, 2014

• Supply Air Ducts, Letter Dated—May 1, 2014

• GAO Report—Recommendations on Ventilation Systems and Air Quality, Transmittal Letter Dated—January 9, 2013

VII. Adjourn: 4:00pm

Dated: June 2, 2014.
Pamela Beck Danner,
Administrator, Office of Manufactured Housing Programs.

[FR Doc. 2014-13089 Filed 6-4-14; 8:45 am]

BILLING CODE 4210-67-P